DEPARTMENT OF THE INTERIOR

Fish and Wildlife Service

[FWS-R9-IA-2010-N128] [96300-1671-0000-P5]

Information Collection Sent to the Office of Management and Budget (OMB) for Approval; OMB Control Number 1018-0137; Applications for Single Use Permits and Registration of Production Facilities (CITES)

AGENCY: Fish and Wildlife Service, Interior.

ACTION: Notice; request for comments.

SUMMARY: We (Fish and Wildlife Service) have sent an Information Collection Request (ICR) to OMB for review and approval. We summarize the ICR below and describe the nature of the collection and the estimated burden and cost. This ICR is scheduled to expire on July 31, 2010. We may not conduct or sponsor and a person is not required to respond to a collection of information unless it displays a currently valid OMB control number. However, under OMB regulations, we may continue to conduct or sponsor this information collection while it is pending at OMB.

DATES: You must send comments on or before July 19, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0137.

Title: Applications for Single Use Permits and Registration of Production Facilities (CITES), 50 CFR 13.11, 23.20, 23.36, and 23.51.

Service Form Number(s): 3-200-74 and 3-200-75.

Type of Request: Extension of a currently approved collection.

Affected Public: Individuals, businesses, nonprofit organizations, and State, tribal, and local governments.

Respondent's Obligation: Required to obtain or retain a benefit.

Frequency of Collection: On occasion.

Total Annual Nonhour Cost Burden: $33,000 associated with processing fees.

Activity | Number of annual respondents | Number of annual responses | Completion time per response | Annual burden hours
FWS Form 3-200-74 | 360 | 1,000 | 6 minutes | 101
FWS Form 3-200-75 | 90 | 95 | 30 minutes | 49
Totals | 450 | 1,095 |  | 150

Abstract: The Convention on International Trade in Endangered Species of Wild Fauna and Flora (CITES) uses a system of permits and certificates to help ensure that international trade is legal and does not threaten the survival of wildlife or plant species in the wild. Prior to the import or export of CITES-listed species, the Management Authority and Scientific Authority must make appropriate determinations and issue CITES documents. Section 8A of the Endangered Species Act (16 U.S.C. 1531 et seq.) designates the Secretary of the Interior as the U.S. Management Authority and U.S. Scientific Authority for CITES. The Secretary delegated these authorities to the Fish and Wildlife Service.

Before a country can issue an export permit for CITES Appendix I or II specimens, the CITES Scientific Authority of the exporting country must determine that the export will not be detrimental to the species, and the Management Authority must be satisfied that the specimens were acquired legally. For the export of Appendix III specimens, the Management Authority must be satisfied that the specimens were acquired legally (CITES does not require findings from the Scientific Authority). Prior to the importation of Appendix I specimens, both the Scientific Authority and the Management Authority of the importing country must make required findings. The Scientific Authority must also monitor trade of all species to ensure that the level of trade is sustainable.

Article VIII(3) of the treaty states that participating parties should make efforts to ensure that CITES specimens are traded with a minimum of delay. Section XII of Resolution Conf. 12.3 (Rev. CoP13) recommends use of simplified procedures for issuing CITES documents to expedite trade that will have no impact, or a negligible impact, on conservation of the species involved.

We use FWS Form 3-200-74 (Single-Use Export Permits Under a Master File or Annual Program File (CITES)) to streamline the application process for CITES documents that involve multiple, similar actions over a given amount of time. For the initial application, respondents use forms designed specifically to address their particular activity (approved under OMB Control No. 1018-0093). From information in the application, we create a master file or annual program file that contains all the information necessary for us to make the required legal acquisition and nondetriment findings. The applicant can then submit FWS Form 3-200-74 to request authorization to carry out multiple, identical activities over the next 6 months. On FWS Form 3-200-74, we request information only about the number of additional documents the applicant requires to carry out activities approved under the previous application process. By referencing information in the master file or annual program file, we can quickly issue partially completed CITES documents (with certain specific areas left blank for completion by the applicant).

United States facilities, such as farms and aquaculture operations, produce several native U.S. taxa listed in CITES Appendices II and III in closed and semi-closed production systems. By registering a production facility and setting up a master file, we can expedite issuance of export permits for that facility. The registration is valid for 1 year. We use FWS Form 3-200-75 (Registration of a Production Facility for Export of Certain Native Species (CITES)) to collect information on annual production levels, method of producing specimens, source of the parental and founder stock, and method of transport for international trade. This information allows us to issue documents on a very short turnaround time, and we do not need to collect additional information prior to the issuance of export documents.

Comments: On February 23, 2010, we published in the Federal Register (75 FR 8102) a notice of our intent to request that OMB renew this ICR. In that notice, we solicited comments for 60 days, ending on April 26, 2010. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 11, 2010.
Hope Grey,
Information Collection Clearance Officer, Fish and Wildlife Service.

[FR Doc. 2010-14761 Filed 6-17-10; 8:45 am]

BILLING CODE 4310-55-S